INTERNATIONAL TRADE COMMISSION

[Investigation No. 332-543]

Trade, Investment, and Industrial Policies in India: Effects on the U.S. Economy; Proposed Information Collection; Comment Request; Trade, Investment, and Industrial Policies in India Questionnaire

AGENCY: United States International Trade Commission.

ACTION: In accordance with the provisions of the Paperwork Reduction Act of 1995 (44 U.S.C. Chapter 35), the U.S. International Trade Commission (Commission) hereby gives notice that it plans to submit a request for approval of a questionnaire to the Office of Management and Budget for review and requests public comment on its draft collection.

DATES: To ensure consideration, written comments must be submitted on or before January 14, 2014.

ADDRESSES: Direct all written comments to William Powers, Project Leader, U.S. International Trade Commission, 500 E Street SW., Washington, DC 20436 (or via email at william.powers@usitc.gov).

Additional Information: Copies of the questionnaire and supporting investigation documents may be obtained from project leader William Powers (william.powers@usitc.gov or 202-708-5405) or deputy project leader Renee Berry (renee.berry@usitc.gov or 202-205-3498). Supporting documents may also be downloaded from the Commission Web site at http://www.usitc.gov/research_and_analysis/What_We_Are_Working_On.htm. Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Purpose of Information Collection: The information requested by the questionnaire is for use by the Commission in connection with Investigation No. 332-543, Trade, Investment, and Industrial Policies in India: Effects on the U.S. Economy, instituted under the authority of section 332(g) of the Tariff Act of 1930 (19 U.S.C. 1332(g)). This investigation was requested by both the House Committee on Ways and Means and the Senate Committee on Finance (the Committees). The Committees requested that this investigation include a survey of U.S. firms in selected industries affected by Indian trade, investment, or industrial policies. The Commission expects to deliver the results of its investigation to the Committees by December 15, 2014.

Summary of Proposal

(1) Number of forms submitted: 1.

(2) Title of form: Trade, Investment, and Industrial Policies in India Questionnaire.

(3) Type of request: New.

(4) Frequency of use: Industry questionnaire, single data gathering, scheduled for 2014.

(5) Description of respondents: Companies in industries particularly affected by Indian trade, investment, or industrial policies.

(6) Estimated number of respondents: up to 15,000.

(7) Estimated total number of hours to complete the questionnaire per respondent: 12 hours.

(8) Information obtained from the questionnaire that qualifies as confidential business information will be so treated by the Commission and not disclosed in a manner that would reveal the individual operations of a firm.

SUPPLEMENTARY INFORMATION:

I. Abstract

The House Committee on Ways and Means and the Senate Committee on Finance (the Committees) have directed the Commission to produce a report that examines Indian policies that discriminate against U.S. trade and investment and estimates the effects these barriers have on the U.S. economy and U.S. jobs. The Committees have requested that the report should (1) Provide an overview of trends and policies in India affecting trade and foreign direct investment; (2) describe the significant policies currently maintained by India, the U.S. sectors most affected by these policies, and Indian competitiveness in the affected sectors; (3) present case studies of the effects of particular measures; (4) quantify the economic effects of identified Indian measures on the U.S. economy; and (5) survey U.S. firms in selected sectors on their perceptions of recent changes in Indian policies and the effect these changes have on U.S. firms' strategies towards India. The Commission will base its report on a review of available data and other information, including the collection of primary data through a survey of U.S. firms in industries particularly affected by Indian policies.

II. Method of Collection

Respondents will be mailed a letter directing them to download and fill out a form-fillable PDF questionnaire. Once complete, respondents may submit it by uploading it to a secure webserver, emailing it to the study team, faxing it, or mailing a hard copy to the Commission.

III. Request for Comments

Comments are invited on (1) Whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC Web site at http://pubapps2.usitc.gov/comments_332_543/.

Comments submitted in response to this notice will be summarized and/or included in the request for OMB approval of this information collection; they will also become a matter of public record.

By order of the Commission.
Issued: November 12, 2013.
Lisa R. Barton,
Acting Secretary to the Commission.

[FR Doc. 2013-27468 Filed 11-15-13; 8:45 am]

BILLING CODE 7020-02-P